DEPARTMENT OF THE INTERIOR

National Park Service

[NPS-WASO-NRNHL-11134: 2200-3200-665]

National Register of Historic Places; Notification of Pending Nominations and Related Actions

Nominations for the following properties being considered for listing or related actions in the National Register were received by the National Park Service before August 18, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 27, 2012. Before including your address, phone number, email address, or other personal identifying information in your comment, you should be aware that your entire comment—including your personal identifying information—may be made publicly available at any time. While you can ask us in your comment to withhold your personal identifying information from public review, we cannot guarantee that we will be able to do so.

Dated: August 27, 2012.
J. Paul Loether,
Chief, National Register of Historic Places/National Historic Landmarks Program.

LOUISIANA

East Baton Rouge Parish

Corona Building, 1854 North St., Baton Rouge, 12000825

MAINE

Kennebec County

Togus VA Medical Center and National Cemetery, 1 VA Center, Augusta, 12000826

MASSACHUSETTS

Hampshire County

Middlefield Center Historic District, 138-188 Skyline Trail, & 7 Bell Rd., Middlefield, 12000827

MONTANA

Carbon County

Montana, Wyoming and Southern Railroad Depot, 403 Broadway Ave., Belfry, 12000828

Lake County

Dayton State Bank, 133 C St., Dayton, 12000829

Yellowstone County

Garfield School, 3212 1st Ave., S., Billings, 12000830

NEW YORK

Kings County

MARY A. WHALEN (tanker), Pier 9B, Red Hook Container Terminal, Red Hook, 12000831

Rensselaer County

Cornell—Manchester Farmstead, (Farmsteads of Pittstown, New York MPS) 292 Lower Pine Valley Rd., Hoosick Falls, 12000832

NORTH CAROLINA

Pitt County

Falkland Historic District, Roughly Crisp, N. Main, & S. Main Sts., & West Ave., Falkland, 12000833

OHIO

Cuyahoga County

Neal Terrace, (Apartment Buildings in Ohio Urban Centers, 1870-1970 MPS) 8811 Detroit Ave., Cleveland, 12000834

Hamilton County

St. Aloysius Orphanage, 4721 Reading Rd., Cincinnati, 12000835

Washington County

Bell Covered Bridge, Bell Rd., Vincent, 12000836

[FR Doc. 2012-22407 Filed 9-11-12; 8:45 am]

BILLING CODE 4312-51-P